DEPARTMENT OF ENERGY

Federal Energy Regulatory Commission

[Docket No. CP04-056-000]

Terasen Sumas Inc.; Notice of Application

January 29, 2004.

Take notice that on January 20, 2004, Terasen Sumas Inc. (Sumas), 16705 Fraser Highway, Surrey, British Columbia, Canada, V3S 2X7 filed in Docket No CP04-056-000, an abbreviated application pursuant to section 7(b) of the Natural Gas Act (NGA), as amended, and part 157 of the regulations of the Federal Energy Regulatory Commission (Commission), to abandon its interstate pipeline facilities, located at the United States and Canadian border ¹ near Sumas, Washington, by sale to Northwest Pipeline Corporation (Northwest) pursuant to a Facilities Sales Agreement, dated November 11, 2003. Sumas also requests that the Commission vacate Sumas' existing part 284 blanket transportation certificate. This filing is available for review at the Commission in the Public Reference Room or may be viewed on the Commission's Web site at http://www.ferc.gov using the “e-Library” link. Enter the docket number excluding the last three digits in the docket number field to access the document. For assistance, contact FERC at FERCOnlineSupport@ferc.gov or call toll-free, (866) 208-3676, or for TTY, (202) 502-8659.

¹ Sumas and Northwest have filed in CP04-55-000 an application pursuant to section 3 of the Natural Gas Act (NGA), part 153 of the regulations of the Commission, Executive Order Nos. 10485 and 12038 and the Secretary of Energy's Delegation Order No. 0204-112 to transfer from Sumas to Northwest the authorization and Presidential Permit previously issued to Sumas in CP92-259-000 to operate and maintain the above referenced facilities.

The Sumas facilities consist of approximately 205 feet of 24-inch pipe connecting Northwest's SIPI Meter Station to the United States/Canada border. The facilities are located within Northwest's Sumas Compressor Station site. To alleviate inefficiencies inherent with SIPI's operation of its facilities within Northwest's site, Sumas agreed to sell its facilities to Northwest. Northwest will maintain and operate the facilities as an integrated part of its SIPI Meter Station for receipt and delivery of natural gas for its part 284 Shippers. Upon sale of these facilities Sumas will no longer have interstate pipeline facilities, and will no longer be an interstate pipeline company subject to the Commission's jurisdiction.

Any questions concerning this application may be directed to Cynthia Des Brisay, Director, Business Development, Terasen Sumas Inc., 16705 Fraser Highway, Surrey, British Columbia, Canada, V3S 2X7, at (604) 592-7837 or fax (604) 592-7620.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken; but the filing of a comment alone will not serve to make the filer a party to the proceeding. The Commission's rules require that persons filing comments in opposition to the project provide copies of their protests only to the party or parties directly involved in the protest.

Protests and interventions may be filed electronically via the Internet in lieu of paper; See 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying an application will be issued.

Comment Date: February 19,2004.

Magalie R. Salas,
Secretary.

[FR Doc. E4-190 Filed 2-4-04; 8:45 am]

BILLING CODE 6717-01-P